Title 3—

The President

Proclamation 10533 of March 21, 2023

Establishment of the Avi Kwa Ame National Monument

By the President of the United States of America

A Proclamation

Yuman Tribes tell that creation began at a towering mountain in the southernmost reaches of Nevada at the confluence of the Mojave and Sonoran Deserts. The Mojave people call this mountain Avi Kwa Ame, or Spirit Mountain. The mountain and the surrounding arid valleys and mountain ranges are among the most sacred places for the Mojave, Chemehuevi, and some Southern Paiute people, and are also significant to other Tribal Nations and Indigenous peoples, including the Cocopah, Halchidhoma, Havasupai, Hopi, Hualapai, Kumeyaay, Maricopa, Pai Pai, Quechan, Yavapai, and Zuni. These Tribal Nations have been here since time immemorial, and the area contains evidence of human occupancy reaching back more than 10,000 years. Tribal members still sing songs, passed from generation to generation throughout their history, that tell the stories of travel and connection to the springs, peaks, and valleys in alignment with the migration patterns of game species, the availability of water, and the life cycles of the plants they have continually harvested.

For the Tribal Nations that trace their creation to Avi Kwa Ame, the power and significance of this place reside not just in the mountain itself, but radiate across the valleys and mountain ranges of the surrounding desert landscape containing the landmarks and spiritually important locations that are linked by oral traditions and beliefs. Tribal Nations have shared those traditions and beliefs across many generations through Salt Songs, Bird Songs, and other origin songs, which are central to Tribal members' knowledge of the landscape, enabling them to navigate across the diverse terrain, find essential resources, and perform healing, funeral, and other rituals. These traditional and place-based songs connect Tribal members to their homelands, allowing for profound relationships with Avi Kwa Ame and its surroundings and providing healing and spiritual connections even if they are far from home.

The presence of Avi Kwa Ame—which has been designated as a Tribal cultural property and listed on the National Register of Historic Places—in the eastern portion of the area provides a distinctive lens through which members of Tribal Nations experience these sacred lands, the plants and animals found there, and their spiritual traditions. In these traditions, power emanates from the mountain itself, creating spiritual and visual connections throughout the landscape.

The Avi Kwa Ame landscape includes the McCullough and Lucy Gray Mountains in the west; the Piute and Eldorado Valleys, split by the Highland Mountains, in the center; the Castle and Dead Mountains in the south; and the Eldorado Mountains and the monument namesake, Avi Kwa Ame, part of the Newberry Mountains, in the east. This entire landscape is an object of historic and scientific interest requiring protection under section 320301 of title 54, United States Code (the “Antiquities Act”). The landscape as a whole is significant and unique, providing context for each of its constituent parts, which are themselves objects warranting protection. As well as being an object itself, the landscape contains innumerable individual geologic features, archaeological sites, and havens for sensitive and threatened species—including the Mojave desert tortoise, Gila monster, and desert bighorn sheep—and it provides habitat for centuries-old Joshua trees and other objects that are independently of historic or scientific interest and require protection under the Antiquities Act. Some of the objects are also sacred to Tribal Nations; are sensitive, rare, or vulnerable to vandalism and theft; or are dangerous to visit and, therefore, revealing their specific names and locations could pose a danger to the objects or the public.

People have lived, traveled, and worked in this landscape for more than 10,000 years. Across the Avi Kwa Ame landscape, projectile points and pictographs give testament to Indigenous peoples' hunting activities, while groundstone artifacts, milling artifacts, and ancient quarries demonstrate how tools were created and used to find, extract, and process both plant and mineral resources. Fluted projectile points, which are some of the earliest stone tool technologies in North America and rarely recorded in southern Nevada, have been found in the McCullough Mountains and nearby areas. Numerous rockshelters can be found amid the cliffs that surround these valleys, where ancestral Indigenous peoples camped or lived. Pottery fragments as old as 1,500 years, found near some of these rockshelters, are believed to have been used either in more stable settlements or camps or for safely transporting materials across long distances. While evidence of the passage of Indigenous peoples is present throughout the landscape, more permanent occupation in the area was limited by water availability, and most camping areas or settlements were temporary, facilitating hunting or allowing people to gather plants or minerals. The Piute Valley is at the center of paleoclimate and anthropological studies focusing on paleoclimatic changes and their influences on uses of the land by Indigenous peoples.

Many of the plant and animal species that live in this landscape have spiritual, cultural, or medicinal value to Indigenous peoples. Traditional hunting of bighorn sheep in the mountainous areas of southern Nevada remains culturally important for some Tribal Nations today. For centuries, people have gathered piñon nuts in the ridges of the McCullough, Newberry, and New York Mountains. The McCullough Mountains contain rockshelters, lithic scatters, artifact scatters, petroglyphs, pine nut caches, a trail, and a residential camp; these places were likely used for winter camps that allowed Indigenous peoples to hunt and collect piñon nuts. To the north, the Highland Mountains hold evidence of many residential camps, quarries, and rockshelters, as well as petroglyphs depicting resources in the area, such as acorns, large game, and water. One rockshelter in the Highland Mountains is particularly unique in that it contains hundreds of well-preserved, otherwise perishable objects, including some likely used for capturing small game. To the northeast, the Eldorado Mountains feature petroglyphs likely inscribed by members of the Fort Mojave Tribe and pictographs that likely were used to provide direction and facilitate travel as people migrated or searched for resources, while the Newberry Mountains in the south contain evidence of quarrying and rockshelters. Ancient Indigenous peoples visited the Castle and New York Mountains to obtain stone such as obsidian for tools, leaving behind petroglyphs and other evidence of their presence. Hiko Spring and the adjacent canyon contain numerous Indigenous petroglyphs along with etchings made by Euro-American settlers as far back as the late 19th century. Rockshelters are also found in the Newberry Mountains, and canyons in the area, including Grapevine Canyon and Sacatone Wash, contain petroglyphs that mark the presence of Indigenous peoples for millennia. The cliffs above Bridge Canyon contain constructed rock walls that continue to be studied to determine their origin and purpose.

The Avi Kwa Ame area's rugged geology, which is unlike the rest of southern Nevada, tells the story of a landscape dramatically changed by its volcanic history, which has sparked the imaginations of geologists for more than 150 years. Each mountain range—the Highland, Castle, Eldorado, Newberry, Lucy Gray, McCullough, and New York Mountains—has long served as a distinct and important scientific resource to geologists. The plutons, intrusive dikes, and other igneous formations in these ranges have provided particularly important insights into the study of volcanism during the Tertiary period, especially the Miocene epoch.

The Avi Kwa Ame area's desert location and geography also allow for a soundscape that is among the most naturally quiet in the United States. Additionally, the area's exceptional dark skies, rare in highly populated Clark County, have been noted for the excellent stargazing opportunities they offer and for benefits to migratory birds.

The Lucy Gray Mountains, captured within the western border of the area, include incised drainages within rounded igneous boulder fields and isolated springs that support an important migration route for desert bighorn sheep. Rising between the flat expanses of the Ivanpah and Piute Valleys, this range represents an important area for igneous geology and soils research related to volcanism and tectonism.

To the northwest, the McCullough Mountains are characterized by an undulating crest flanked by rocky outcrops and cliffs, punctuated by black basalt and springs. For millennia, Indigenous peoples have sought refuge in the higher elevations that provide respite from the heat of the valley floor; sustenance in the form of piñon nuts and game for hunting; and water and shelter. The ancient Precambrian rock and its desert vegetation—ranging from creosote in the low elevation, to blackbrush and Joshua trees in the middle elevations, to old-growth piñon and juniper in the peaks—provide habitat for desert bighorn sheep and many other animal species.

Running north-south through the center of the landscape, the Highland Mountains contain distinctive large, tilted, colorful igneous and sedimentary rocks and stark cliffs of exposed Precambrian rock. These mountains provide a vital home to a small remnant herd of desert bighorn sheep that survived when most other sheep populations in Nevada were lost to drought, human encroachment, disease, and other environmental pressures. Indigenous peoples camped and hunted in these mountains, and ancient rockshelters and petroglyphs are found throughout the range. Igneous features in the area have also been the subject of decades of geological study by researchers seeking to enhance understanding of ancient volcanic activity.

The low-lying Piute and Eldorado Valleys run through the center of the Avi Kwa Ame area. These valleys contain spiritual pathways and trails that emanate from Avi Kwa Ame that have been followed by Yuman peoples for generations and continue to be significant to Tribal Nations today. Characterized by Mojave Desert vegetation, these valleys provide core habitat for the ancient and threatened Mojave desert tortoise. To the southwest, the Castle Mountains extend from within the Avi Kwa Ame area across the border into California, providing important connectivity for bighorn sheep migrating between southern Nevada and protected lands within California.

In the northeast corner lie the Eldorado Mountains, formed of Precambrian rock and containing sharp ridges with narrow, deep canyons extending to the east that fade into bajadas on the western slope. The highest of these mountains, Ireteba Peak, is named after Irataba, a Mojave Tribal leader of the mid-1800s. Water is scarce here and summer temperatures exceed 120 degrees Fahrenheit, yet the area contains evidence of longstanding human activity, including petroglyphs and pictographs, as well as historic mine sites.

The turbulent geologic past of the Avi Kwa Ame area has sculpted a landscape of steep cliffs, rolling foothills and bajadas, and arid valleys with limited water. Precambrian schist, gneiss, and granite can be found on the west side of the Eldorado Mountains and McCullough Mountains and in the Eldorado Valley, as well as in the Nellis Wash area. The Piute and Eldorado Valleys and the mountains surrounding them have long been a focus for studies of groundwater, geology, alluvial fan formation, flood hazard management, continental extension, and faulting and volcanism.

Among the quartzite cliffs and felsic plutonic rock of the Newberry Mountains, which form part of the eastern boundary of the Avi Kwa Ame area, stands Spirit Mountain, the highest peak within the range. Avi Kwa Ame has been studied extensively by geologists researching the processes that cause the formation of geologic features, such as dikes and batholiths, as well as the development of new methods for geochronology. The mountain's geology features Precambrian rocks in the north and white and pink granitic spires in the south. Avi Kwa Ame and the surrounding Newberry Mountains are foundational in the creation stories of the Mojave, Pai Pai, Cocopah, Kumeyaay, Havasupai, Maricopa, Hualapai, Yavapai, Quechan, and Halchidhoma and are recognized by many Tribes as a place of great spiritual importance. In the foothills of the Newberry Mountains, Hiko Spring Canyon contains the year-round Hiko Spring, an area that has been used by humans for hundreds if not thousands of years, evinced by a collection of petroglyphs depicting bighorn sheep, handprints, and other geometric shapes, as well as historic rock carvings.

Many of the features that made this landscape accessible to Indigenous peoples were also used by Euro-American settlers and traders. Early expeditions of fur traders, miners, and the military passed through the southern part of the Avi Kwa Ame landscape, often following the Mojave Trail, which is still visible today. The trail is part of a network of ancient trails used by Indigenous peoples to safely traverse the harsh and unforgiving Mojave Desert. The easternmost miles of the Mojave Trail in Nevada pass by Granite Springs in the far southeastern corner of the Avi Kwa Ame area. The springs were the first stop on the Mojave Trail for ancient Indigenous peoples heading west from the Colorado River and have provided life-sustaining water to many generations of travelers. The area contains petroglyphs and rockshelters and holds historic and cultural significance for Tribal Nations.

In 1826, Jedediah Smith led a fur trapping expedition on a segment of the Old Spanish National Historic Trail, subsequently labeled the Mojave Road, which was the first use by traders of European descent. The Mojave Road, which bisects the Avi Kwa Ame landscape, continued to be used by traders and settlers traveling between New Mexico and California throughout the 19th century. To the east, within Grapevine Canyon in the Bridge Canyon Wilderness, evidence of 19th century mining roads from the Searchlight District remains on the landscape, as do traces of the Quartette Railroad, which the Quartette Mining Company operated in the early 1900s between Searchlight and the Colorado River. The New York Mountains and Piute Valley were also later used for military training exercises for armored vehicles as part of the Desert Training Center during World War II and during the Cold War, including some under the command of General George S. Patton. Additionally, in the Chiquita Hills area, there is evidence of training operations, including foxholes, rock walls, and gun turrets.

While there is evidence of Indigenous mining in the area going back hundreds of years, the 1890s saw settlers of European descent in the area discover a number of valuable mineral deposits, including turquoise, gold, silver, copper, lead, and molybdenum, which gave rise to a number of mining districts that are replete with evidence of the landscape's mining history. Southwest of the Wee Thump Joshua Tree Wilderness, near the California border, the Crescent Townsite area contains the remnants of a rich history of mining of turquoise and gold, including evidence of railroad construction and mineral exploration and extraction. The surrounding historic Crescent Mining District, which stretched into the New York Mountains and the south end of the McCullough Range, was a hub for turquoise mining in the late 19th century. There is evidence of mining in this area by Indigenous peoples since at least the late 13th century. Workshops, homes, pottery, and polishing tools have all been found, indicating that Indigenous peoples mined the Crescent Peak area for turquoise long before Europeans permanently settled in the Americas. The area was later developed for gold mining; remnants of the mining history, including an early 20th century arrastra and remnants of a railroad, are scattered among ancient Joshua trees standing sentinel to the passage of generations. While limited studies have occurred, the historic mining districts of Searchlight and Newberry, along with areas in Nellis Wash, also contain remnants of the area's mining past that may provide new historical insights into the metal extraction industry in the area during the first half of the 20th century. As a testament to the harsh and remote landscape and the limited resources necessary to support human habitation, materials from early mining activity and railroads were often repurposed to support subsequent mining and construction of homes and other buildings both inside and outside the Avi Kwa Ame area.

Piute Valley also contains the historic Walking Box Ranch site, which is known for its significance in the history of cattle ranching, mining, entertainment, and politics in southern Nevada. The ranch, initially part of vast holdings grazed by historic Rock Springs Land and Cattle Company in the 19th century, was sold off in the 1920s and was purchased by Hollywood silent film stars Clara Bow and Rex Bell in 1931. The couple operated the ranch together for over a decade as a functioning cattle ranch and occasional vacation retreat for their Hollywood friends. Among the dignitaries hosted by the Bells were General Patton and some of his troops while they were training in the area during World War II. Later, Bell went into politics and served as Nevada's Lieutenant Governor. The United States acquired the property in 2005, and the entire ranch, including the main house, outbuildings and related structures, and associated landscape features, is considered architecturally significant as a well-maintained example of cattle ranch property of the Southwest. Of particular interest are the main house, which features Spanish Colonial Revival architecture, and the barn and elements of the corrals, which provide preserved examples of railroad tie construction.

The rich human history revealed by the Avi Kwa Ame area coexists with the area's scientifically significant biological diversity, rare plants and animals, and ecology. As a whole and across a broad range of taxa, the Avi Kwa Ame area has been noted for providing ecological and habitat connectivity for a wide range of species, offering great potential for scientific studies of plants, animals, and ecosystems. Situated where the Mojave and Sonoran Desert ecosystems converge, and incorporating a wide elevation gradient that supports a broad range of ecosystems, the area both provides homes to a diverse range of species and communities and offers tremendous potential to support adaptation to climate change.

The bajadas and rolling valleys of the Avi Kwa Ame area support plant communities ranging from creosote-bursage scrub, shadscale scrub, and blackbrush to piñon-juniper woodland. The area showcases the transition between the vegetation of the Sonoran and Mojave Deserts, creating unique assemblages of species that do not typically occupy the same ecosystems and as a result are of interest to ecologists, climate scientists, and biologists. Biological soil crusts, desert pavement, and bedrock cliffs and outcrops support unique soil environments and can be found throughout the Avi Kwa Ame area. The Eldorado Valley and Lucy Gray Mountains in particular are of interest to biologists who study biological soil crusts. Nearly the entire area has been classified as an Ecologically Core or Ecologically Intact portion of the Mojave Desert region. Sites spanning a vegetation gradient in the Newberry Mountains provide data for botanists and climate scientists to study changes in climate, land use, and vegetation, and to understand paleoclimate, climate and vegetation change, and desert community ecology. The creosote-white bursage scrub community fills the valleys, plains, and bajadas at low elevations in the Avi Kwa Ame area. This plant community also supports four-winged saltbush and wolfberry. Dune-like sandy soils are home to creosote bush and big galetta grass, while the lowest elevations are spotted with Mojave yucca or Joshua trees. Catclaw acacia, honey mesquite, and sweetbush, rare in arid environments, can be found in washes. The area is also home to rare plants, including the yellow two-tone penstemon, two-toned beardtongue, rosy two-toned penstemon, and white-margined penstemon, as well as rare bryophytes such as American dry rock moss in Grapevine Canyon.

Joshua trees, found in both the Piute and Eldorado Valleys and west toward the Lucy Gray Mountains, are predicted to be negatively impacted by climate change because of their slow growth and weather-dependent reproduction, and the Piute Valley is scientifically important for studies of this fragile species. In the southwest portion of the area, along the California border from the New York Mountains to the Piute Valley, visitors find thriving forests, particularly around the portion of Highway 164 that runs from Searchlight to the California border. This portion of Highway 164 is known as “Joshua Tree Highway” because of the unique density of these trees. Just north of the New York Mountains and Highway 164, the Wee Thump Joshua Tree Wilderness and surrounding area comprise a stunning, old-growth Joshua tree forest, home to Nevada's largest known Joshua tree. The wilderness, named for the Paiute phrase for “ancient ones,” contains trees up to 800 years old. Many bird species rely heavily on the nesting cavities the trees provide, and the Wee Thump area is both home to western bluebirds, northern flickers, hairy woodpeckers, and ash-throated flycatchers; and the location of Nevada's only known sightings of the gilded flicker.

Dry slopes, ridges, and valley bottoms found across the Avi Kwa Ame landscape support shadscale scrub plant communities, featuring budsage, winterfat, rabbitbrush, big sagebrush, spiny hopsage, and black greasewood, along with native desert grasses such as bottlebrush squirreltail, Sandberg bluegrass, and Indian ricegrass, and flowering plants such as polished blazingstar. Middle-elevation slopes and upper bajadas are home to blackbrush scrub communities, which shade into piñon-juniper woodland in upper elevations. In the lower reaches of the Newberry Mountains, Mojave Desert plants such as teddy bear cholla, Mojave yucca, barrel cactus, and even smoke tree can also be found. One of the few wet areas, Grapevine Wash, supports cottonwood trees and canyon grape, along with cattails and rushes. The location of the Newberry Mountains at the convergence of the Mojave, Great Basin, and Sonoran Deserts makes the area the terminus for the range of 45 plant species, resulting in an area of unusual diversity that is significant for studies of climate, vegetation, and environmental change.

Along with diverse plant communities, the Avi Kwa Ame landscape supports an array of desert wildlife, including many species that rely on the area's natural springs and seeps. The Hiko, Piute, and Roman dry washes are internationally known for the important bird habitat they provide, including catclaw acacia, mesquite, cottonwood, desert willow, and sandbar willow that provide rare pockets of habitat for species distinct from those in the surrounding desert. Additionally, Phainopepla, a sensitive species that is the most northerly representative of silky flycatchers, use the trees for nesting and eat mistletoe seeds in these washes, making them uniquely important for this species in Nevada.

The landscape overall supports a broad array of bird species and has long been important for ornithologists. A diverse cadre of raptors, such as ferruginous hawk, bald eagle, golden eagle, burrowing owl, and peregrine falcon hunt their prey and nest, both above and below ground, in the stark landscape. Species of interest to both amateur and professional ornithologists make their homes here, including Gambel's quail, sage thrasher, Bendire's thrasher, Costa's hummingbird, gilded flicker, rufous hummingbird, cactus wren, northern mockingbird, ash-throated flycatcher, American goldfinch, and potentially Yuma ridgeway's rail.

A broad variety of desert mammal species also make their homes in the area, ranging from the tiny pocket gopher to large ungulates like mule deer, along with a diversity of predators including bobcats and ring-tailed cats. An incredible array of bat species, including 18 species that have been identified as at-risk by the Bureau of Land Management (BLM), call the landscape home, including pollinators like the pallid bat, the rare spotted bat, and a diverse group of insectivorous bat species that roost in rock crevices, former mines, and other small spaces. The area provides important habitat and vital connectivity for the Nelson (desert) bighorn sheep. The Highland Range has been identified as crucial bighorn habitat, and bighorn sheep also traverse the ridges of the McCullough and Lucy Gray Mountains, the western slopes of the Newberry Mountains, and the Nellis Wash.

Among reptiles and amphibians, the area is most notable as habitat for the threatened Mojave desert tortoise. The elusive desert tortoise, with its long lifespan, low juvenile survival rate, and extreme capacity for conserving water, is a rare and incredible symbol of this challenging landscape. The Piute and Eldorado Valleys and other low-lying portions of the Avi Kwa Ame area, including Nellis Wash, have long been recognized as the highest priority for desert tortoise habitat conservation and restoration in southern Nevada; the connectivity and condition of the habitat as well as its location within critical habitat recovery units make this area uniquely suited to supporting tortoise conservation. The area is also critical to scientific studies of desert tortoise population biology, genetics, and ecology.

Many other reptile species rely on the area, including the elusive and beautiful banded Gila monster; the stocky, iguana-like chuckwalla; the western banded gecko; and the colorful Great Basin collared lizard. Species unique to and emblematic of the Mojave Desert, including the Mojave Desert sidewinder and Mojave shovel-nosed snake, make their homes here, along with the shimmering, nocturnal desert rosy boa, all of which are BLM sensitive species. Amphibians, which are rare in harsh desert environments, including the Arizona toad, also survive in this dry environment, and the red-spotted toad has been known to breed in Grapevine Canyon.

The flowering plants that survive despite the challenges of the sunbaked landscape, such as the brilliant fields of wildflowers in the Newberry Mountains, support and are supported by pollinators like the monarch butterfly, northern Mojave blue butterfly, MacNeill sooty wing skipper, and flat-faced cactus bee. The area also contains potential habitat for the endemic Mojave gypsum bee and Mojave poppy bee.

Protection of the Avi Kwa Ame area will preserve its diverse array of natural and scientific resources, ensuring that the cultural, prehistoric, historic, and scientific values of this area endure for the benefit of all Americans. The living landscape holds sites of historical, traditional, cultural, and spiritual significance; is the setting of the creation story of multiple Tribal Nations; and is inextricably intertwined with the sacred significance of Avi Kwa Ame. The area contains numerous objects of historic and scientific interest, and it provides world-class outdoor recreation opportunities, including hiking, camping, birdwatching, motorized touring, stargazing, hunting, and pursuing amateur geology, all of which support a growing travel and tourism economy in the region.

WHEREAS, the Antiquities Act authorizes the President, in his discretion, to declare by public proclamation historic landmarks, historic and prehistoric structures, and other objects of historic or scientific interest that are situated upon the lands owned or controlled by the Federal Government to be national monuments, and to reserve as a part thereof parcels of land, the limits of which shall be confined to the smallest area compatible with the proper care and management of the objects to be protected; and

WHEREAS, I find that each of the objects identified above, and objects of the type identified above within the area, are objects of historic or scientific interest in need of protection under 54 U.S.C. 320301, regardless of whether they are expressly identified as an object of historic or scientific interest in the text of this proclamation; and

WHEREAS, I find that the unique objects and resources within the Avi Kwa Ame landscape, in combination, make the landscape more than the mere sum of its parts, and the entire landscape within the boundaries reserved by this proclamation is an object of historic and scientific interest in need of protection under 54 U.S.C. 320301; and

WHEREAS, I find that there are threats to the objects identified in this proclamation, and in the absence of a reservation under the Antiquities Act, the objects identified in this proclamation are not adequately protected by applicable law or administrative designations, thus making a national monument designation and reservation necessary to protect the objects of historic and scientific interest in the Avi Kwa Ame landscape for current and future generations; and

WHEREAS, I find that the boundaries of the monument reserved by this proclamation represent the smallest area compatible with the protection of the objects of scientific or historic interest as required by the Antiquities Act; and

WHEREAS, it is in the public interest to ensure the preservation, restoration, and protection of the objects of scientific and historic interest on the Avi Kwa Ame lands, including the entire monument landscape, reserved within the Avi Kwa Ame boundary;

NOW, THEREFORE, I, JOSEPH R. BIDEN JR., President of the United States of America, by the authority vested in me by section 320301 of title 54, United States Code, hereby proclaim the objects identified above that are situated upon lands and interests in lands owned or controlled by the Federal Government to be the Avi Kwa Ame National Monument (monument) and, for the purpose of protecting those objects, reserve as part thereof all lands and interests in lands owned or controlled by the Federal Government within the boundaries described on the accompanying map, which is attached hereto and forms a part of this proclamation. These reserved Federal lands and interests in lands encompass approximately 506,814 acres. Due to the distribution of the objects of the types identified in this proclamation across the Avi Kwa Ame landscape, and because the landscape itself is an object in need of protection, to confine the boundaries of the monument to the smallest area compatible with the proper care and management of the objects of historic or scientific interest requires the reservation of the entire area described on the accompanying map.

All Federal lands and interests in lands within the boundaries of the monument are hereby appropriated and withdrawn from all forms of entry, location, selection, sale, or other disposition under the public land laws, from location, entry, and patent under the mining laws, and from disposition under all laws relating to mineral and geothermal leasing, other than by exchange that furthers the protective purposes of the monument.

This proclamation is subject to valid existing rights. If the Federal Government subsequently acquires any lands or interests in lands not owned or controlled by the Federal Government within the boundaries described on the accompanying map, such lands and interests in lands shall be reserved as a part of the monument, and objects of the type identified above that are situated upon those lands and interests in lands shall be part of the monument, upon acquisition of ownership or control by the Federal Government.

The Secretary of the Interior (Secretary) shall manage the monument, pursuant to applicable legal authorities, through the BLM, as a unit of the National Landscape Conservation System, and through the National Park Service (NPS), in accordance with the terms, conditions, and management direction provided by this proclamation. The NPS and the BLM shall manage the monument cooperatively and shall prepare an agreement to share, consistent with applicable laws, whatever resources are necessary to properly manage the monument; however, the NPS shall continue to have primary management authority over the portion of the monument within the Lake Mead National Recreation Area, and the BLM shall have primary management authority over the remaining portion of the monument. After issuance of this proclamation, the Secretary shall, consistent with applicable legal authorities, transfer administrative jurisdiction of lands managed by the Bureau of Reclamation within the boundaries of the monument to the BLM.

For purposes of protecting and restoring the objects identified above, the Secretary shall prepare and maintain a monument management plan (management plan). In preparing the management plan, the Secretary shall take into account, to the maximum extent practicable, maintaining the undeveloped character of the lands within the monument, minimizing impacts from surface-disturbing activities, providing appropriate access for hunting and wildlife management, and emphasizing the retention of natural quiet, dark night skies, and visual resources. The Secretary shall provide for maximum public involvement in the development of the management plan, including consultation with federally recognized Tribal Nations and State and local governments. In the development and implementation of the management plan, the Secretary shall maximize opportunities, pursuant to applicable legal authorities, for shared resources, operational efficiency, and cooperation.

The Secretary, through the BLM, shall establish and maintain an advisory committee under the Federal Advisory Committee Act (5 U.S.C. App.) with the specific purpose of providing information and advice regarding the development of the management plan and management of the monument. This advisory committee shall consist of a fair and balanced representation of interested stakeholders. A majority of the membership shall be made up of members of Tribal Nations with a historical connection to the lands within the monument, with the remaining members representing local governmental entities, recreational users, conservation organizations, wildlife or hunting organizations, the scientific community, business owners, and local citizens.

In recognition of the importance of Tribal participation in the care and management of the objects identified above, and to ensure that management decisions affecting the monument are informed by and reflect Tribal expertise and Indigenous Knowledge, the Secretary shall meaningfully engage the Tribal Nations with historical and spiritual connections to the monument lands in the development of the management plan and management of the monument. The Secretary shall enter into a memorandum of understanding with interested Tribal Nations to set forth terms, pursuant to applicable laws, regulations, and policies, for co-stewardship of the monument.

Nothing in this proclamation shall be deemed to enlarge or diminish the rights or jurisdiction of any Tribal Nation. The Secretary shall, to the maximum extent permitted by law and in consultation with Tribal Nations, ensure the protection of sacred sites and cultural properties and sites in the monument and provide access to Tribal members for traditional cultural, spiritual, and customary uses, consistent with the American Indian Religious Freedom Act (42 U.S.C. 1996), Executive Order 13007 of May 24, 1996 (Indian Sacred Sites), and the November 10, 2021, Memorandum of Understanding Regarding Interagency Coordination and Collaboration for the Protection of Indigenous Sacred Sites. Such uses shall include collection of medicines, berries and other vegetation, forest products, and firewood for personal noncommercial use so long as each use is carried out in a manner consistent with the proper care and management of the objects identified above.

Livestock grazing has not been permitted in the monument area since 2006, and the Secretary shall not issue any new grazing permits or leases on such lands.

Nothing in this proclamation shall be construed to preclude the renewal or assignment of, or interfere with the operation, maintenance, replacement, modification, upgrade, or access to, existing flood control, utility, pipeline, and telecommunications facilities; roads or highway corridors; seismic monitoring facilities; or other water infrastructure, including wildlife water developments or water district facilities, within or adjacent to an existing authorization boundary. Existing flood control, utility, pipeline, telecommunications, and seismic monitoring facilities, and other water infrastructure, including wildlife water developments or water district facilities, may be expanded, and new facilities of such kind may be constructed, to the extent consistent with the proper care and management of the objects identified above and subject to the Secretary's authorities and other applicable law.

For purposes of protecting and restoring the objects identified above, the Secretary shall prepare a transportation plan that designates the roads and trails on which motorized and non-motorized mechanized vehicle use will be allowed. Except for emergency or authorized administrative purposes, including appropriate wildlife management, motorized vehicle use in the monument shall be permitted only on roads and trails documented as existing as of the date of this proclamation. Any additional roads or trails designated for motorized vehicle use must be designated only for the purposes of public safety needs or protection of the objects identified above. The Secretary shall monitor motorized and non-motorized mechanized vehicle use and designated roads and trails to ensure proper care and management of monument objects.

To further the protection of the monument, the Secretary shall evaluate opportunities to work with local communities to locate and develop a visitor center or other visitor information facilities to enhance public services and promote management efficiencies.

Nothing in this proclamation shall preclude low-level overflights of military aircraft, the designation of new units of special use airspace, or the use or establishment of military flight training routes over the lands reserved by this proclamation. Nothing in this proclamation shall preclude air or ground access to existing or new electronic tracking communications sites associated with the special use airspace and military training routes.

So long as carried out in a manner consistent with the proper care and management of the objects identified above, nothing in this proclamation shall preclude the safe and efficient operation of airplanes over the lands reserved by this proclamation.

Nothing in this proclamation shall be deemed to enlarge or diminish the jurisdiction of the State of Nevada (State), including its jurisdiction and authority with respect to fish and wildlife management, including hunting on Federal lands. The Secretary shall seek to continue collaborating with the State on wildlife management and shall expeditiously explore entering into a memorandum of understanding, or amending an existing memorandum of understanding, with the State to facilitate such collaboration.

Nothing in this proclamation alters, modifies, or amends the Clark County Multi-Species Habitat Conservation Plan.

If any provision of this proclamation, including its application to a particular parcel of land, is held to be invalid, the remainder of this proclamation and its application to other parcels of land shall not be affected thereby.

Nothing in this proclamation shall be deemed to revoke any existing withdrawal, reservation, or appropriation; however, the monument shall be the dominant reservation.

Warning is hereby given to all unauthorized persons not to appropriate, injure, destroy, or remove any feature of the monument and not to locate or settle upon any of the lands thereof.

IN WITNESS WHEREOF, I have hereunto set my hand this twenty-first day of March, in the year of our Lord two thousand twenty-three, and of the Independence of the United States of America the two hundred and forty-seventh.

Billing code 3395-F3-P

[FR Doc. 2023-06387

Filed 3-24-23; 8:45 a.m.]

Billing code 4310-10-C